NATIONAL AERONAUTICS AND SPACE ADMINISTRATION

[Notice (09-052)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: June 16, 2009.

FOR FURTHER INFORMATION CONTACT: Bryan A. Geurts, Patent Counsel, Goddard Space Flight Center, Mail Code 140.1, Greenbelt, MD 20771-0001; telephone (301) 286-7351; fax (301) 286-9502.

NASA Case No. GSC-15421-1: Spring Joint with Overstrain Sensor;

NASA Case No. GSC-15557-1: System and Method for Embedding Emotion in Logic Systems;

NASA Case No. GSC-15458-1: System and Method for Transferring Telemetry Data Between a Ground Station and a Control Center;

NASA Case No. GSC-15001-1: Apparatus and Method for a Light Direction Sensor.

Dated: June 10, 2009.
Richard W. Sherman,
Deputy General Counsel.

[FR Doc. E9-14055 Filed 6-15-09; 8:45 am]

BILLING CODE P